FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 3, 2013.

A. Federal Reserve Bank of Chicago (Colette A. Fried, Assistant Vice President) 230 South LaSalle Street, Chicago, Illinois 60690-1414:

1. Charles M. Shea, of Wilmette, Illinois, as an individual, and the group consisting of JP Morgan Chase Bank, N.A., Naperville, Illinois, as Trustee of the Jerry C. Bradshaw Family Trust—GST Non-Exempt Trust, Naperville, Illinois, and the Jerry C. Bradshaw Family Trust—GST Exempt Trust, Naperville, Illinois; Charles M. Shea, Wilmette, Illinois, as a committee member of the Jerry C. Bradshaw Family Trust—GST Non-Exempt Trust and the Jerry C. Bradshaw Family Trust—GST Exempt Trust; Molly Baed, Wassenaar, Netherlands, as a committee member of the Jerry C. Bradshaw Family Trust—GST Non-Exempt Trust and the Jerry C. Bradshaw Family Trust—GST Exempt Trust; Betty J. Bradshaw, Wheaton, Illinois, as a committee member of the Jerry C. Bradshaw Family Trust—GST Non-Exempt Trust and the Jerry C. Bradshaw Family Trust—GST Exempt Trust, to retain control of the outstanding shares of Marseilles Bancorporation, Inc., Marseilles, Illinois, and thereby retain shares of Marseilles Bank, Marseilles, Illinois.

B. Federal Reserve Bank of Kansas City (Dennis Denney, Assistant Vice President) 1 Memorial Drive, Kansas City, Missouri 64198-0001:

1. The Jennifer L. Wolgamott 2012 Legacy Trust, Cathleen R. Hefti, as trustee and individually, both of Scottbluff, Nebraska; the Christie L. Coletti Christensen 2012 Legacy Trust and the Michael P. Coletti 2012 Legacy Trust, both of Greeley, Colorado; and the Kay Lorraine Hefti Coletti Living Trust, Kay L. Coletti and David C. Coletti, trustees, all of Cheyenne, Wyoming; to acquire control of First State Bancshares, Inc., and thereby indirectly acquire First State Bank, both of Scottsbluff, Nebraska, and Security First Bank, Cheyenne, Wyoming.

2. Norman W. Waitt, Jr., Dakota Dunes, South Dakota; Christopher M. Mayer, Omaha, Nebraska; the John S. Schuele Irrevocable Trust, Mary A. Schuele and Dana C. Bradford, co-trustees, all of Omaha, Nebraska; Todd P. Clevenger, Omaha, Nebraska; and the Dana C. Bradford IV Revocable Trust, Dana C. Bradford, trustee, both of Omaha, Nebraska; all as members of a group acting in concert, to acquire control of Premier Bancshares, Inc., and thereby indirectly acquire Premier Bank, both in Omaha, Nebraska.

Board of Governors of the Federal Reserve System, August 12, 2013.
Margaret McCloskey Shanks,
Deputy Secretary of the Board.

[FR Doc. 2013-19833 Filed 8-14-13; 8:45 am]

BILLING CODE 6210-01-P